DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Survey of Industrial Research and Development.

OMB Control Number: 0607-0912.

Form Number(s): RD-1, RD-1A.

Type of Request: Revision of a currently approved collection.

Burden Hours: 70,750.

Number of Respondents: 32,000.

Average Hours Per Response: RD-1—8 hours, and RD-1A—1.5 hours.

Needs and Uses: The Census Bureau is requesting a revision of the currently approved collection for the annual Survey of Industrial Research and Development the Survey) that is conducted jointly by the U.S. Census Bureau and the National Science Foundation (NSF). Under a joint project agreement between NSF and the Census Bureau, the Census Bureau is responsible for obtaining clearance of the Survey.

The National Science Foundation Act of 1950 as amended authorizes and directs NSF “* * * to provide a central clearinghouse for the collection, interpretation, and analysis of data on scientific and engineering resources and to provide a source of information for policy formulation by other agencies of the Federal government.” The Survey is the vehicle with which NSF carries out the industrial portion of this mandate. NSF together with the Census Bureau, the collecting and compiling agent, analyze the data and publish the resulting statistics.

Industry is the major performer of research and development (R&D) in the United States, spending over 70 percent of total U.S. R&D outlays each year. A consistent industrial R&D information base is essential to government officials formulating public policy, industry personnel involved in corporate planning, and members of the academic community conducting research. To develop policies designed to promote and enhance science and technology, past trends and the present status of R&D must be known and analyzed. Without comprehensive industrial R&D statistics, it would be impossible to evaluate the health of science and technology in the United States or to make comparisons between the technological progress of our country and that of other nations.

Statistics from the Survey are published in NSF's annual publication series, Research and Development in Industry, available via the Internet at www.nsf.gov/statistics/industry. Since 1953, this survey has provided continuity of statistics on R&D expenditures by major industry groups and by source of funds. Over the years, questions on a number of additional areas have been added to the Survey as the need for this R&D information became necessary for policy formulation and research.

In the last request for OMB review, response to five questions (total net sales and total employment for the company; and the amount of Federal and total funds the company spent on R&D and cost of R&D performed within the company by state) was mandatory and fulfilled the Census Bureau's data-collecting mandate in Title 13, U.S. Code, Sections 131, 182, 224, and 225. Further, authorization to make the entire survey mandatory every five years to coincide with the Census Bureau's Economic Census was requested and approved. The ‘all-mandatory' requirement was last applied for the 2002 cycle of the Survey. The next economic census will be conducted for 2007 and authorization to apply the requirement is requested.

The Census Bureau and NSF also request to add item 13 from Form RD-1 to Form RD-1A—R&D by type of expense. This item has been on the Form RD-1 for several years and survey respondents have shown the ability to provide data for this item. Collecting this information on both forms will allow the Census Bureau and NSF to have a more complete estimate of R&D expense by type.

The Census Bureau and the NSF are planning a redesign of the Survey. The Census Bureau will provide a separate OMB submission for the redesigned survey to be implemented for survey year 2008.

Policy officials from many Federal agencies rely on statistics from this survey for essential information. For example, total U.S. R&D expenditures statistics have been used by the Bureau of Economic Analysis (BEA) to update the System of National Accounts and BEA has established a separate R&D satellite account in the System. Results from the Survey are needed to develop and subsequently update this detailed satellite account. Also a data linking project was designed to augment the Foreign Direct Investment (FDI) data collected by BEA. This project was the first conducted under new data sharing legislation. The linking of the results of the 1997 and 1999 cycles of the Survey with BEA's 1997 and 1999 FDI benchmark files was the first application of the Confidential Information Protection and Statistical Efficiency Act (CIPSEA) that allows limited data sharing among selected Federal statistical agencies. The Census Bureau and NSF are preparing to conduct annual linkage projects of the R&D data to the FDI and USDIA data, commencing with the 2004 survey files. Plans also call for the possible linkage of the 2007 and future survey files. Further, the Census Bureau links data collected by the Survey with other statistical files. At the Census Bureau, historical company-level R&D data are linked to a file that contains information on the outputs and inputs of companies' manufacturing plants.

Researchers are able to analyze the relationships between R&D funding and other economic variables by using micro-level data.

Many individuals and organizations access the survey statistics via the Internet and hundreds have asked to have their names placed on the mailing list for a paper copy of the annual SRS InfoBrief that announces the availability of statistics from each cycle of the Survey. Information about the kinds of projects that rely on statistics from the Survey is available from internal records of NSF's Division of Science Resources Statistics (SRS). In addition, survey statistics are regularly printed in trade publications and many researchers use the survey statistics from these secondary sources without directly contacting NSF or the Census Bureau.

Affected Public: Business or other for-profit organizations.

Frequency: Annually.

Respondent's Obligation: Mandatory.

Legal Authority: Title 13 U.S.C. Sections 131, 182, 224, and 225.

OMB Desk Officer: Brian Harris-Kojetin, (202) 395-7314.

Copies of the above information collection proposal can be obtained by calling or writing Diana Hynek, Departmental Paperwork Clearance Officer, (202) 482-0266, Department of Commerce, Room 6625, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: November 7, 2007.
Gwellnar Banks,
Management Analyst, Office of the Chief Information Officer.

[FR Doc. E7-22273 Filed 11-13-07; 8:45 am]

BILLING CODE 3510-07-P